DEPARTMENT OF ENERGY

Federal Energy Regulatory Commission

[Project No. 14126-000]

New Sweden Irrigation District, ID; Notice of Preliminary Permit Application Accepted for Filing and Soliciting Comments, Motions To Intervene, and Competing Applications

On March 29, 2011, New Sweden Irrigation District filed an application for a preliminary permit, pursuant to section 4(f) of the Federal Power Act (FPA), proposing to study the feasibility of the New Sweden Hydroelectric Project to be located on the Snake River, in Jefferson and Bonneville counties, Idaho. The sole purpose of a preliminary permit, if issued, is to grant the permit holder priority to file a license application during the permit term. A preliminary permit does not authorize the permit holder to perform any land-disturbing activities or otherwise enter upon lands or waters owned by others without the owners' express permission.

The proposed project will consist of the following: (1) An existing 80-foot-wide diversion structure with four 13-foot-wide by 5-foot-high steel radial head gates; (2) a 3.5-mile-long existing canal varying from 75 to 100-foot-wide and 10 to 12-foot-deep; (3) a new powerhouse equipped with a single 0.9 megawatt Kaplan turbine; (4) a new 500-foot-long, 12.5-kilovolt transmission line connecting to the utility distribution system owned by Rocky Mountain Power; and (5) appurtenant facilities. The estimated annual generation of the New Sweden Irrigation Project would be 5.6 gigawatt-hours.

Applicant Contact: Mr. Nicolas E. Josten, GeoSense; 2742 Saint Charles Ave., Idaho Falls, ID 83404; phone: (208) 528-6152.

FERC Contact: Ian Smith; phone: (202) 502-8943.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-14126-000) in the docket number field to access the document. For assistance, contact FERC Online Support.

Dated: April 20, 2011.
Kimberly D. Bose,
Secretary.

[FR Doc. 2011-9996 Filed 4-25-11; 8:45 am]

BILLING CODE 6717-01-P